ENVIRONMENTAL PROTECTION AGENCY

[FRL-6895-2]

Agency Information Collection Activities: Submission for OMB Review; Comment Request; Land Disposal Restrictions

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Land Disposal Restrictions, EPA ICR #1442.17, OMB Control Number 2050-0085, expires December 31, 2000. The ICR describes the nature of the information collection and its expected burden and cost; where appropriate, it includes the actual data collection instrument.

DATES: Comments must be submitted on or before December 4, 2001.

ADDRESSES: Send comments, referencing EPA ICR No. 1442.17 and OMB Control No. 2050-0085, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by email at farmer.sandy@epamail.epa.gov, or download a copy of the ICR off the Internet at http://www.epa.gov/icr and refer to EPA ICR No. 1442.17. For technical questions about the ICR contact Peggy Vyas at 703-308-5477.

SUPPLEMENTARY INFORMATION: Title: Land Disposal Restrictions, EPA ICR #1442.17, OMB Control Number 2050-0085, expires on December 31, 2000. This is a request for extension of a currently approved collection.

Abstract: Section 3004 of the Resource Conservation and Recovery Act (RCRA), as amended, requires that EPA develop standards for hazardous waste treatment, storage, and disposal as may be necessary to protect human health and the environment. Subsections 3004(d), (e), and (g) require EPA to promulgate regulations that prohibit the land disposal of hazardous waste unless it meets specified treatment standards described in subsection 3004(m).

The regulations implementing these requirements are codified in the Code of Federal Regulations (CFR) title 40, part 268. EPA requires that facilities maintain the data outlined in this ICR so that the Agency can ensure that land disposed waste meets the treatment standards. EPA strongly believes that the recordkeeping requirements are necessary for the agency to fulfill its congressional mandate to protect human health and the environment.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 27, 2000 (65 FR 24692). One comment was received.

Burden Statement: The annual public reporting and recordkeeping burden for this collection of information is estimated to average 4.28 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business and Government.

Estimated Number of Respondents: 167,303.

Frequency of Response: On occasion.

Estimated Total Annual Hour Burden: 1,182,612 hours.

Estimated Total Annualized Capital, Operating/ Maintenance Cost Burden: $72,851.

Send comments on the Agency's need for this information, the accuracy of the provided burden estimates, and any suggested methods for minimizing respondent burden, including through the use of automated collection techniques to the addresses listed above. Please refer to EPA ICR No. 1442.17 and OMB Control No. 2050-0085 in any correspondence.

Dated: October 24, 2000.
Oscar Morales,
Director, Collection Strategies Division.

[FR Doc. 00-28167 Filed 11-1-00; 8:45 am]

BILLING CODE 6560-05-U